DEPARTMENT OF COMMERCE

International Trade Administration

(A-588-824)

Certain Corrosion-Resistant Carbon Steel Flat Products From Japan: Notice of Extension of Preliminary Results of Antidumping Duty Administrative Review.

AGENGY: Import Administration, International Trade Administration, Department of Commerce.

EFFECTIVE DATE: May 9, 2005.

FOR FURTHER INFORMATION CONTACT: Christopher Hargett or James Terpstra, AD/CVD Operations, Office 3, Import Administration, International Trade Administration, U.S. Department of Commerce, 14th Street and Constitution Avenue, NW, Washington, DC 20230; telephone: (202) 482-4161 or (202) 482-3965.

SUPPLEMENTARY INFORMATION:

Background

The Department of Commerce (“the Department”) published an antidumping duty order on certain corrosion-resistant carbon steel flat products from Japan on August 19, 1993. See Antidumping Duty Order: Certain Corrosion-Resistant Carbon Steel Flat Products from Japan, 58 FR 44163 (August 19, 1993). Nucor Corporation (“Nucor”), the petitioner, requested that the Department conduct an administrative review of the order. See Letter from Nucor Corporation, August 31, 2004. On September 22, 2004, the Department published a notice of initiation of administrative review of the antidumping duty order on certain corrosion-resistant carbon steel flat products from Japan, covering the period of August 1, 2003, to July 31, 2004. See Initiation of Antidumping and Countervailing Duty Administrative Reviews and Request for Revocation, In Part, 69 FR 56745. The preliminary results for this review are currently due no later than May 3, 2005.

Extension of Time Limits for Preliminary Results

Section 751(a)(3)(A) of the Tariff Act of 1930, as amended (“the Act”), requires the Department to issue the preliminary results of an administrative review within 245 days after the last day of the anniversary month of an order for which a review is requested. If it is not practicable to complete the review within the time period, section 751(a)(3)(A) of the Act and section 351.213(h)(2) of the Department's regulations allow the Department to extend this deadline to a maximum of 365 days.

Both respondents, JFE and Nippon Steel, have declined to participate in this review. As such, the Department will apply adverse facts available pursuant to section 776(a) and (b) of the Act. The Department has continuing concerns about what the appropriate rate is to assign to JFE and Nippon Steel as adverse facts available. Therefore, the Department determines that it is not practicable to complete the review within the original time period, and is extending the time limit for completion of the preliminary results by 30 days to no later than June 2, 2005. We intend to issue the final results no later than 120 days after publication of the notice of the preliminary results. This notice is being issued and published in accordance with section 751(a)(3)(A) of the Act.

Dated: May 3, 2005.
Barbara E. Tillman,
Acting Deputy Assistant Secretary for Import Administration.

[FR Doc. E5-2230 Filed 5-6-05; 8:45 am]

BILLING CODE 3510-DS-S